DEPARTMENT OF COMMERCE

National Oceanic and Atmospheric Administration

50 CFR Part 648

[Docket No. 070227048-7091-02]

RIN 0648-XE82

Magnuson-Stevens Fishery Conservation and Management Act Provisions; Fisheries of the Northeastern United States; Northeast Multispecies Fishery; Modification of the Yellowtail Flounder Landing Limit for the U.S./Canada Management Area

AGENCY: National Marine Fisheries Service (NMFS), National Oceanic and Atmospheric Administration (NOAA), Commerce.

ACTION: Temporary rule; trip limit change.

SUMMARY: NMFS announces that the Administrator, Northeast (NE) Region, NMFS (Regional Administrator), is decreasing the Georges Bank (GB) yellowtail flounder trip limit to 1,500 lb (680 kg) for NE multispecies days-at-sea (DAS) vessels fishing in the U.S./Canada Management Area. This action is authorized by the regulations implementing Amendment 13 to the NE Multispecies Fishery Management Plan and is intended to prevent over-harvest of the Total Allowable Catch (TAC) for GB yellowtail flounder. This action is being taken under the authority of the Magnuson-Stevens Fishery Conservation and Management Act (Magnuson-Stevens Act) to slow the catch rate of GB yellowtail flounder to provide opportunity for vessels to continue fishing while helping to ensure that the TAC will not be exceeded during the 2007 fishing year (May 1, 2007 - April 20, 2008).

DATES: Effective 0001 hours local time January 10, 2008, through April 30, 2008.

FOR FURTHER INFORMATION CONTACT: Mark Grant, Fishery Management Specialist, (978) 281-9145, fax (978) 281-9135.

SUPPLEMENTARY INFORMATION: Regulations governing the GB yellowtail flounder landing limit within the U.S./Canada Management Area are found at § 648.85(a)(3)(iv)(C) and (D). The regulations authorize vessels issued a valid Federal limited access NE multispecies permit and fishing under a NE multispecies DAS to fish in the U.S./Canada Management Area, as defined at § 648.85(a)(1), under specific conditions. The TAC for GB yellowtail flounder for the 2007 fishing year is 900 mt. The regulations at § 648.85(a)(3)(iv)(D) authorize the Regional Administrator to increase or decrease the trip limit in the U.S./Canada Management Area to prevent over-harvesting or under-harvesting the TAC allocation.

On April 24, 2007 (72 FR 20287), based upon the reduced 2007 TAC for GB yellowtail flounder (a 43-percent reduction from 2006) and projections of harvest rates in the fishery, the trip limit for GB yellowtail flounder was set at 3,000 lb (1,361 kg) for the 2007 fishing year, to prevent the over-harvest of the 2007 GB yellowtail flounder TAC, and to prevent a premature closure of the Eastern U.S./Canada Management Area and, therefore, reduced opportunities to fish for Eastern GB cod and haddock in the Eastern U.S./Canada Area. On November 27, 2007, the GB yellowtail flounder trip limit was increased to 7,500 lb (3,402 kg) because the 3,000-lb (1,361-kg) trip limit was projected to result in the under-harvest of the TAC.

According to the most recent Vessel Monitoring System (VMS) reports and other available information, the cumulative GB yellowtail flounder catch, as of January 9, 2008, is estimated to be 82 percent of the TAC, with a projection that the complete harvest of the TAC would occur by January 23, 2008. Harvest of the GB yellowtail flounder TAC would prevent the reopening of the Eastern U.S./Canada Area to harvest the remaining portions of the GB cod and GB haddock TACs. Decreasing the GB yellowtail flounder trip limit to 1,500 lb (680 kg) from 7,500 lb (3,402 kg) is expected to reduce the number of trips made to the Western U.S./Canada Area to target GB yellowtail flounder, decrease landings of yellowtail flounder without increasing discards, and result in the achievement of the TAC during the fishing year without exceeding it. Based on this information, the Regional Administrator is decreasing the current 7,500-lb (3,402-kg) trip limit in the U.S./Canada Area to 1,500 lb (680 kg) per trip, effective 0001 hours local time January 10, 2008, through April 30, 2008. GB yellowtail flounder landings will continue to be closely monitored. Further inseason adjustments to increase or decrease the trip limit may be considered, based on updated catch data and projections. Should 100 percent of the TAC allocation for GB yellowtail flounder be projected to be harvested, all vessels would be prohibited from harvesting, possessing, or landing yellowtail flounder from the entire U.S./Canada Management Area, and the Eastern U.S./Canada Area would be closed to limited access NE multispecies DAS vessels for the remainder of the fishing year.

Classification

This action is authorized by 50 CFR part 648 and is exempt from review under Executive Order 12866.

Pursuant to 5 U.S.C. 553(b)(3)(B) and (d)(3), there is good cause to waive prior notice and opportunity for public comment; as well as the delayed effectiveness for this action, because prior notice and comment, and a delayed effectiveness, would be impracticable and contrary to the public interest. The regulations under § 658.85(a)(3)(iv)(D) grant the Regional Administrator the authority to adjust the GB yellowtail flounder trip limit to prevent over-harvesting or under-harvesting the TAC allocation. This action would reduce the GB yellowtail trip limit for all NE multispecies DAS vessels fishing in the U.S./Canada Management Area for the remainder of the 2007 fishing year. This action is intended to prevent the over-harvest of the GB yellowtail flounder TAC while allowing continued opportunities to achieve optimum yield in the NE multispecies fishery.

This action is authorized by the regulations at § 648.85(a)(3)(iv)(D). It is important to take this action immediately because the rapid catch rate observed since implementing the 7,500-lb (3,402-kg) GB yellowtail flounder trip limit on November 27, 2007, is projected to result in the TAC being achieved on January 23, 2008. This would require that the Eastern U.S./Canada Area remain closed for the remainder of the 2007 fishing year, preventing the reopening the Eastern U.S./Canada Management Area to harvest the remaining portions of the GB cod and GB haddock TACs. Allowing the current rapid catch rate (33 percent of the TAC was caught between December 6, 2007, and January 3, 2008) to continue during the period necessary to publish and receive comments on a proposed rule could potentially allow the GB yellowtail flounder harvest to exceed the GB yellowtail flounder TAC for the 2007 fishing year. Exceeding the 2007 TAC for GB yellowtail flounder would increase mortality of this overfished stock beyond that evaluated during the development of Amendment 13, resulting in decreased revenue for the NE multispecies fishery, increased negative economic impacts to vessels operating in the U.S./Canada Area, a reduced chance of achieving optimum yield in the groundfish fishery, and unnecessary delays to the rebuilding of this overfished stock. Exceeding the 2007 GB yellowtail flounder TAC would also necessitate that any overages during the 2007 fishing year be deducted from the GB yellowtail TAC for the 2008 fishing year. Reducing the 2008 TAC due to any 2007 TAC overage caused by delaying this action would create an unnecessary burden on the fishing industry and further negative economic and social impacts that were not previously considered.

The potential of decreasing the GB yellowtail flounder trip limit was announced to the public when the 7,500-lb (3,402-kg) trip limit was implemented on November 27, 2007. Further, the public is able to obtain information on the rate of harvest of the GB yellowtail flounder TAC via the Northeast Regional Office website (http://www.nero.noaa.gov), which provides at least some advanced notice of a potential action to prevent the TAC for GB yellowtail flounder from being exceeded during the 2007 fishing year. The Regional Administrator's authority to decrease the trip limit for GB yellowtail flounder in the U.S./Canada Management Area to ensure the shared U.S./Canada stocks of fish are harvested, but not exceeded, was considered and open to public comment during the development of Amendment 13 and FW 42. Therefore, any negative effect the waiving of public comment and delayed effectiveness may have on the public is mitigated by these factors.

Authority: 16 U.S.C. 1801 et seq.

Dated: January 9, 2008.
Emily H. Menashes,
Acting Director, Office of Sustainable Fisheries, National Marine Fisheries Service.

[FR Doc. 08-91 Filed 1-9-08; 12:57 pm]

BILLING CODE 3510-22-S